NUCLEAR REGULATORY COMMISSION

[Docket No. 50-271; NRC-2010-0191]

Entergy Nuclear Operations, Inc.; Entergy Nuclear Vermont Yankee, LLC; Vermont Yankee Nuclear Power Station; License No. DPR-28; Receipt of Request for Action Under 10 CFR 2.206

Notice is hereby given that by petition dated April 19, 2010, Congressman Paul W. Hodes (the Petitioner) has requested that pursuant to Title 10 of the Code of Federal Regulations (10 CFR) 2.206, “Requests for Action under this Subpart,” the U.S. Nuclear Regulatory Commission (NRC) take action with regard to the Vermont Yankee Nuclear Power Station (Vermont Yankee). The Petitioner requested that the NRC not allow Vermont Yankee, operated by Entergy Nuclear Operations, Inc. (Entergy or the licensee), to restart after its scheduled refueling outage until all environmental remediation work and relevant reports on leaking tritium at the plant have been completed. Specifically, the Petitioner requested that Vermont Yankee be prevented from resuming power production until the following work has been completed to the Commission's satisfaction: (1) The tritiated groundwater remediation process; (2) the soil remediation process scheduled to take place during the refueling outage, to remove soil containing not only tritium, but also radioactive isotopes of cesium, manganese, zinc, and cobalt; (3) Entergy's ongoing Root Cause Analysis; and (4) the Commission's review of the documents presented by Entergy in response to the Commission's demand for information, which was issued on March 1, 2010.

The NRC is treating the request under 10 CFR 2.206 of the Commission's regulations. The request has been referred to the Director of the Office of Nuclear Reactor Regulation (NRR). By letter dated May 20, 2010, the Director denied the Petitioner's request to maintain Vermont Yankee shut down. As provided by 10 CFR 2.206, the NRC will take appropriate action on this petition within a reasonable time.

A copy of the petition is available to the public from the NRC's Agencywide Documents Access and Management System (ADAMS) in the public Electronic Reading Room on the NRC Web site at http://www.nrc.gov/reading-rm/adams.html under ADAMS Accession No. ML101120663, and is available for inspection at the Commission's Public Document Room, located at One White Flint North, 11555 Rockville Pike (first floor), Rockville, Maryland.

Dated at Rockville, Maryland this 20th day of May 2010.
For the Nuclear Regulatory Commission.
Eric J. Leeds,
Director, Office of Nuclear Reactor Regulation.

[FR Doc. 2010-12884 Filed 5-27-10; 8:45 am]

BILLING CODE 7590-01-P